DEPARTMENT OF TRANSPORTATION

Federal Aviation Administration

14 CFR Part 39

[Docket No. FAA-2018-0907; Product Identifier 2018-NM-118-AD; Amendment 39-19562; AD 2019-03-10]

RIN 2120-AA64

Airworthiness Directives; Airbus SAS Airplanes

AGENCY: Federal Aviation Administration (FAA), Department of Transportation (DOT).

ACTION: Final rule.

SUMMARY: We are superseding Airworthiness Directive (AD) 2017-07-05, which applied to all Airbus SAS Model A300 series airplanes; and Model A300 B4-600, B4-600R, and F4-600R series airplanes, and Model A300 C4-605R Variant F airplanes (collectively called Model A300-600 series airplanes). AD 2017-07-05 required repetitive detailed visual inspections of the main landing gear (MLG) leg components and replacement of the MLG leg if cracked components are found. This AD retains the requirements of AD 2017-07-05 and removes the credit for doing an MLG overhaul in lieu of the initial inspection of the MLG leg components. This AD was prompted by further investigation after AD 2017-07-05 was issued, which revealed that overhaul of the MLG does not alleviate the need for inspecting the MLG hinge arm/barrel pin for cracking. We are issuing this AD to address the unsafe condition on these products.

DATES: This AD is effective March 29, 2019.

The Director of the Federal Register approved the incorporation by reference of a certain publication listed in this AD as of March 29, 2019.

ADDRESSES: For service information identified in this final rule, contact Airbus SAS, Airworthiness Office—EAW, Rond-Point Emile Dewoitine No: 2, 31700 Blagnac Cedex, France; telephone +33 5 61 93 36 96; fax +33 5 61 93 44 51; email account.airworth-eas@airbus.com; internet http://www.airbus.com. You may view this referenced service information at the FAA, Transport Standards Branch, 2200 South 216th St., Des Moines, WA. For information on the availability of this material at the FAA, call 206-231-3195. It is also available on the internet at http://www.regulations.gov by searching for and locating Docket No. FAA-2018-0907.

Examining the AD Docket

You may examine the AD docket on the internet at http://www.regulations.gov by searching for and locating Docket No. FAA-2018-0907; or in person at Docket Operations between 9 a.m. and 5 p.m., Monday through Friday, except Federal holidays. The AD docket contains this final rule, the regulatory evaluation, any comments received, and other information. The address for Docket Operations (phone: 800-647-5527) is U.S. Department of Transportation, Docket Operations, M-30, West Building Ground Floor, Room W12-140, 1200 New Jersey Avenue SE, Washington, DC 20590.

FOR FURTHER INFORMATION CONTACT: Dan Rodina, Aerospace Engineer, International Section, Transport Standards Branch, FAA, 2200 South 216th St., Des Moines, WA 98198; telephone and fax 206-231-3225.

SUPPLEMENTARY INFORMATION:

Discussion

We issued a notice of proposed rulemaking (NPRM) to amend 14 CFR part 39 to supersede AD 2017-07-05, Amendment 39-18843 (82 FR 16101, April 3, 2017) (“AD 2017-07-05”). AD 2017-07-05 applied to all Airbus SAS Model A300 series airplanes; and Model A300-600 series airplanes. The NPRM published in the Federal Register on November 6, 2018 (83 FR 55498). The NPRM was prompted by further investigation after AD 2017-07-05 was issued, which revealed that overhaul of the MLG does not alleviate the need for inspecting the MLG hinge arm/barrel pin for cracking. The NPRM proposed to retain the requirements of AD 2017-07-05 and remove the credit for doing an MLG overhaul in lieu of the initial inspection of the MLG leg components. We are issuing this AD to address cracking of certain components in the MLG leg, which could result in an MLG collapse, and consequent damage to the airplane and injury to the airplane occupants.

The European Aviation Safety Agency (EASA), which is the Technical Agent for the Member States of the European Union, has issued EASA AD 2018-0170, dated August 6, 2018 (referred to after this as the Mandatory Continuing Airworthiness Information, or “the MCAI”), to correct an unsafe condition for all Airbus SAS Model A300 series airplanes; and Model A300-600 series airplanes. The MCAI states:

Two cases were reported of finding a cracked MLG hinge arm/barrel pin, one was discovered in service during a maintenance task and the other one was identified during MLG overhaul.

This condition, if not detected and corrected, could lead to MLG collapse, possibly resulting in damage to the aeroplane and injury to occupants.

To address this potential unsafe condition, Airbus issued [Alert Operators Transmission] AOT A32W008-16 (original issue) to provide instructions for detailed visual inspections (DET) to detect cracks and EASA issued AD 2016-0058 accordingly [which corresponds to FAA AD 2017-07-05], requiring repetitive DET of the affected parts and, depending on findings, replacement of the affected MLG leg.

Since that [EASA] AD was issued, further investigation results highlighted that, the overhaul of the MLG cannot alleviate the inspection need of the hinge arm/barrel pin.

For the reasons described above, this [EASA] AD retains the requirement of EASA AD 2016-0058, which is superseded, removing the credit of MLG overhaul for the first inspection of the pin.

You may examine the MCAI in the AD docket on the internet at http://www.regulations.gov by searching for and locating Docket No. FAA-2018-0907.

Comments

We gave the public the opportunity to participate in developing this final rule. We have considered the comments received. Air Line Pilots Association, International and Madeline Roach each indicated support for the NPRM.

Conclusion

We reviewed the relevant data, considered the comments received, and determined that air safety and the public interest require adopting this final rule as proposed, except for minor editorial changes. We have determined that these minor changes:

• Are consistent with the intent that was proposed in the NPRM for addressing the unsafe condition; and

• Do not add any additional burden upon the public than was already proposed in the NPRM.

Related Service Information Under 1 CFR Part 51

Airbus has issued Alert Operators Transmission (AOT) A32W008-16, Rev 01, dated July 30, 2018. This service information describes procedures for inspecting the MLG hinge arm/barrel pin for cracking, and replacement of the MLG leg if cracking is detected.

This service information is reasonably available because the interested parties have access to it through their normal course of business or by the means identified in the ADDRESSES section.

Costs of Compliance

We estimate that this AD affects 128 airplanes of U.S. registry. We estimate the following costs to comply with this AD:

Estimated Costs for Required Actions
Labor cost | Parts cost | Cost per product | Cost on U.S. operators
1 work-hour × $85 per hour = $85, per inspection cycle | $0 | $85, per inspection cycle | $10,880, per inspection cycle.

Estimated Costs of On-Condition Actions
Labor cost | Parts cost | Cost per product
20 work-hours × $85 per hour = $1,700 per MLG | $3,400,000 per MLG | $3,401,700 per MLG.

We estimate that it will take about 1 work-hour per product to comply with the reporting requirement in this AD. The average labor rate is $85 per hour. Based on these figures, we estimate the cost of reporting the inspection results on U.S. operators to be $85 per product.

The new requirements of this AD add no additional economic burden.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW, Washington, DC 20591, ATTN: Information Collection Clearance Officer, AES-200.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2017-07-05, Amendment 39-18843 (82 FR 16101, April 3, 2017), and adding the following new AD:

2019-03-10 Airbus SAS: Amendment 39-19562; Docket No. FAA-2018-0907; Product Identifier 2018-NM-118 AD.

(a) Effective Date

This AD is effective March 29, 2019.

(b) Affected ADs

This AD replaces AD 2017-07-05, Amendment 39-18843 (82 FR 16101, April 3, 2017) (“AD 2017-07-05”).

(c) Applicability

This AD applies to Airbus SAS airplanes, certificated in any category, all manufacturer serial numbers, identified in paragraphs (c)(1) through (c)(5) of this AD.

(1) Model A300 B2-1A, B2-1C, B2K-3C, B2-203, B4-2C, B4-103, and B4-203 airplanes.

(2) Model A300 B4-601, B4-603, B4-620, and B4-622 airplanes.

(3) Model A300 B4-605R and B4-622R airplanes.

(4) Model A300 F4-605R and F4-622R airplanes.

(5) Model A300 C4-605R Variant F airplanes.

(d) Subject

Air Transport Association (ATA) of America Code 32, Landing Gear.

(e) Reason

This AD was prompted by reports of cracks in main landing gear (MLG) leg components. We are issuing this AD to address cracking of certain components in the MLG leg, which could result in an MLG collapse, and consequent damage to the airplane and injury to the airplane occupants.

(f) Compliance

Comply with this AD within the compliance times specified, unless already done.

(g) Definition

For the purpose of this AD an affected part is an MLG hinge arm/barrel pin having part number (P/N) C66441-(X) and P/N C65543-(X), where the X is representing a variable number.

(h) Repetitive Inspections

At the applicable compliance time specified in figure 1 to paragraph (h) of this AD, and thereafter at intervals not to exceed 100 flight cycles, accomplish a detailed visual inspection of the internal diameter of each affected MLG hinge arm/barrel pin for cracking, in accordance with the instructions of Airbus Alert Operators Transmission (AOT) A32W008-16, Rev 01, dated July 30, 2018 (“AOT A32W008-16, Rev 01”).

(i) Corrective Action

If any crack is found during any inspection required by paragraph (h) of this AD: Before further flight, replace the MLG leg in accordance with the instructions of Airbus AOT A32W008-16, Rev 01. Replacement of an MLG leg does not constitute terminating action for the repetitive inspections required by paragraph (h) of this AD.

(j) Reporting

At the applicable time specified in paragraph (j)(1) or (j)(2) of this AD, report the inspection results required by paragraph (h) of this AD to Airbus SAS. This can be accomplished using the instructions of Airbus AOT A32W008-16, Rev 01.

(1) If the inspection was done on or after the effective date of this AD: Submit the report within 30 days after each inspection required by paragraph (h) of this AD.

(2) If the inspection was done before the effective date of this AD: Submit the report within 30 days after the effective date of this AD.

(k) Credit for Previous Actions

This paragraph provides credit for the initial inspection required by paragraph (h) of this AD and corrective actions required by paragraph (i) of this AD, if those actions were performed before the effective date of this AD using the instructions of Airbus AOT A32W008-16, dated February 25, 2016.

(l) Other FAA AD Provisions

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: As of the effective date of this AD, for any requirement in this AD to obtain corrective actions from a manufacturer, the action must be accomplished using a method approved by the Manager, International Section, Transport Standards Branch, FAA; or the European Aviation Safety Agency (EASA); or Airbus SAS's EASA Design Organization Approval (DOA). If approved by the DOA, the approval must include the DOA-authorized signature.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory. Comments concerning the accuracy of this burden and suggestions for reducing the burden should be directed to the FAA at: 800 Independence Ave. SW, Washington, DC 20591, Attn: Information Collection Clearance Officer, AES 200.

(m) Related Information

(1) Refer to Mandatory Continuing Airworthiness Information (MCAI) EASA AD 2018-0170, dated August 6, 2018, for related information. This MCAI may be found in the AD docket on the internet at http://www.regulations.gov by searching for and locating Docket No. FAA-2018-0907.

(2) For more information about this AD, contact Dan Rodina, Aerospace Engineer, International Section, Transport Standards Branch, FAA, 2200 South 216th St., Des Moines, WA 98198; telephone and fax 206-231-3225.

(3) Service information identified in this AD that is not incorporated by reference is available at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Airbus Alert Operators Transmission A32W008-16, Rev 01, dated July 30, 2018.

(ii) [Reserved]

(3) For service information identified in this AD, contact Airbus SAS, Airworthiness Office—EAW, Rond-Point Emile Dewoitine No: 2, 31700 Blagnac Cedex, France; telephone +33 5 61 93 36 96; fax +33 5 61 93 44 51; email account.airworth-eas@airbus.com; internet http://www.airbus.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on February 8, 2019.
Michael Kaszycki,
Acting Director, System Oversight Division, Aircraft Certification Service.

[FR Doc. 2019-02938 Filed 2-21-19; 8:45 am]

BILLING CODE 4910-13-P